DEPARTMENT OF COMMERCE

National Oceanic and Atmospheric Administration

RIN 0648-XF272

Marine Mammals; File No. 20466

AGENCY: National Marine Fisheries Service (NMFS), National Oceanic and Atmospheric Administration (NOAA), Commerce.

ACTION: Notice; receipt of application.

SUMMARY: Notice is hereby given that Alaska Department of Fish and Game (ADF&G), Division of Wildlife Conservation, Juneau, AK (Responsible Party: Robert Small, Ph.D.), has applied in due form for a permit to conduct research on ice seals in Alaska.

DATES: Written, telefaxed, or email comments must be received on or before May 8, 2017.

ADDRESSES: The application and related documents are available for review by selecting “Records Open for Public Comment” from the “Features” box on the Applications and Permits for Protected Species (APPS) home page, https://apps.nmfs.noaa.gov, and then selecting File No. 20466 from the list of available applications.

These documents are also available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Sara Young or Amy Sloan, (301) 427-8401.

SUPPLEMENTARY INFORMATION: The subject permit is requested under the authority of the Marine Mammal Protection Act of 1972, as amended (MMPA; 16 U.S.C. 1361 et seq.) and the regulations governing the taking and importing of marine mammals (50 CFR part 216).

The applicant requests a five-year permit to conduct scientific research on spotted (Phoca largha), ringed (Phoca hispida), bearded (Erignathus barbatus), and ribbon (Histriophoca fasciata) seals in the Bering, Chukchi, and Beaufort seas of Alaska. The purpose of this research is to monitor the status and health of all four species by analyzing samples from the subsistence harvest and by documenting movements and habitat use by tracking animals with satellite transmitters. In addition to sampling harvested seals, the applicant would capture up to 200 individuals of each species per year. Captured seals would be measured, sampled (e.g., blood, blubber, skin, muscle, and whisker), and fitted with transmitters. The applicant also requests permission to harass non-target seals of each species as well as beluga whales, and authorization for a limited number of research-related mortalities. Results of these studies would be used to monitor the health and status of each of the four species' populations, improve population assessments, and develop mitigation measures to minimize disturbance to these species that are important to the indigenous people of Alaska for subsistence food, materials, and for cultural significance. Samples would be imported from Russia, Canada, Svalbard (Norway) and exported to Canada for analyses.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: April 3, 2017.
Julia Harrison,
Chief, Permits and Conservation Division, Office of Protected Resources, National Marine Fisheries Service.

[FR Doc. 2017-06943 Filed 4-6-17; 8:45 am]

BILLING CODE 3510-22-P